DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by September 5, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: National Science Laboratories.

OMB Control Number: 0581-NEW.

Summary of Collection: Under the Agricultural Marketing Act of 1946, as amended (7 U.S.C. 1621-1627), The Agricultural Marketing Service (AMS) administers programs that create domestic and international marketing opportunities for U.S. producers of food, fiber, and specialty crops. AMS also provides the agricultural industry with valuable services to ensure the quality and availability of wholesome food for consumers across the country and around the world.

AMS' Science & Technology Program (S&T) provides scientific, certification and analytical services to the agricultural community to improve the quality, wholesomeness and marketing of agricultural products domestically and internationally. S&T provides support to USDA Agencies, Federal and State agencies, and private sector food and agricultural industries. S&T is organized into four divisions: Laboratory Approval & Testing Division (LATD); Monitoring Programs Division (MPD); the Plant Variety Protection Office (PVPO); and the Seed Regulatory and Testing Division (SRTD). AMS' S&T, LATD provides analytical lab testing and approval services to facilitate domestic and international marketing of food and agricultural commodities. AMS, LATD's National Science Laboratories (NSL) provides objective, timely, and cost-effective analytical testing services to facilitate marketing of food and agricultural products. Regulations implementing AMS' NSL appear at 7 CFR part 91.

Pursuant to this authority, AMS' National Science Laboratories (NSL) is a fee-for-service lab network (7 CFR parts 91) utilized by both industry and government. Through laboratories located in Gastonia, NC, and Blakely, GA, NSL provides chemical, microbiological, and bio-molecular analyses on food and agricultural commodities. NSL provides testing service for AMS commodity programs, other USDA agencies, Federal and State agencies, U.S. Military, research institutions, and private sector food and agricultural industries.

Need and Use of the Information: The National Science Laboratories (NSL) collects, voluntarily from the applicant, customer/business information and specific information about the sample(s) being submitted to perform chemical, microbiological, and bio-molecular analyses on food and agricultural commodities, provide an analytical report/certificate, and collect payment for services. The customer/business information requested is used by the Administrative Officer to identify the applicant in the billing system, to set up an account in the billing system and contact the party responsible for payment of the fee for services. The Sample information documentation requested, to be provided with sample(s), is used by NSL staff to uniquely identify sample, sample conditions, and requested analytical test(s). This is a “fee for service” program with voluntary participation. All costs are recovered. Only information essential to provide service is requested.

Description of Respondents: Business or other for-profit.

Number of Respondents: 490.

Frequency of Responses: Reporting: Annually.

Total Burden Hours: 2,613.

Levi S. Harrell,
Departmental Information Collection Clearance Officer.

[FR Doc. 2023-16599 Filed 8-3-23; 8:45 am]

BILLING CODE 3410-02-P